DEPARTMENT OF VETERANS AFFAIRS

38 CFR Part 4

RIN 2900-AK66

Special Monthly Compensation for Women Veterans Who Lose a Breast as a Result of a Service-Connected Disability; Correction

AGENCY: Department of Veterans Affairs.

ACTION: Final rule; correction.

SUMMARY: In a document published in the Federal Register on February 14, 2002 (67 FR 6872), we amended VA's adjudication regulations to provide for payment of special monthly compensation for a woman veteran who loses one or both breasts as a result of service-connected disability. The document contains typographical errors in the “Note” at the end of diagnostic code 7626 in § 4.116 “Schedule or ratings—gynecological conditions and disorders of the breast.” This document corrects those typographical errors.

DATES: Effective Date: This correction is effective March 18, 2002.

FOR FURTHER INFORMATION CONTACT: Caroll McBrine, M.D., Consultant, Policy and Regulations Staff (211A), Compensation and Pension, Veterans Benefits Administration, Department of Veterans Affairs, 810 Vermont Avenue, NW., Washington, DC 20420, (202) 273-7230.

SUPPLEMENTARY INFORMATION: In rule FR Doc. 02-3677, published on February 14, 2002 (67 FR 6872), make the following correction:

PART 4—[CORRECTED]

§ 4.116 [Corrected]

On page 6874, in column 1, in § 4.116, in the entry for diagnostic code 7626, immediately following “Note: For VA purposes:” remove the horizontal rule and remove the superscript designations 1 through 4 and add, in their place, paragraph designations (1) through (4), respectively.

Approved: May 21, 2002.
Roland Halstead,
Acting Director, Office of Regulatory Law.

[FR Doc. 02-13285 Filed 5-29-02; 8:45 am]

BILLING CODE 8320-01-P